NUCLEAR REGULATORY COMMISSION

Sunshine Act Notice

AGENCY HOLDING THE MEETING: Nuclear Regulatory Commission

DATES: Weeks of November 13, 20, 27, December 4, 11, and 18, 2000.

PLACE: Commissioner's Conference Room, 11555 Rockville Pike, Rockville, Maryland.

STATUS: Public and Closed.

MATTERS TO BE CONSIDERED:

Week of November 13

Wednesday, November 15, 2000.

10 a.m.—Briefing by the Executive Branch (Closed—Ex. 1)

Friday, November 17, 2000

9:25 a.m.—Affirmation Session (Public Meeting), (If needed)

9:30 a.m.—Briefing on Risk-Informed Regulation Implementation Plan, (Public Meeting) (Contact: Tom King, 301-415-5790)

This meeting will be webcast live at the Web address— www.nrc.gov/live.html

Week of November 20—Tentative

There are no meetings scheduled for the Week of November 20.

Week of November 27—Tentative

Monday, November 27, 2000

9 a.m.—Briefing by DOE on Plutonium Disposition Program and MOX Fuel Fabrication Facility Licensing (Public Meeting), (Contact: Drew Persinko, 301-415-6522)

This meeting will be webcast live at the Web address— www.nrc.gov/live.html

Week of December 4—Tentative

Monday, December 4, 2000

1:55 p.m.-Affirmation Session (Public Meeting) (If needed)

2 p.m.—Briefing on License Renewal Generic Aging Lessons Learned (GALL) Report, Standard Review Plan (SRP), and Regulatory Guide (Public Meeting) (Contact: Chris Grimes, 301-415-1183)

This meeting will be webcast live at the Web address— www.nrc.gov/live.html

Week of December 11—Tentative

There are no meetings scheduled for the Week of December 11.

Week of December 18—Tentative

Wednesday, December 20, 2000

9:25 a.m.—Affirmation Session (Public Meeting) (If needed)

9:30 a.m.—Briefing on the Status of the Fuel Cycle Facility Oversight Program Revision (Public Meeting)

This meeting will be webcast live at the Web address— www.nrc.gov/live.html

Note: The schedule for commission meetings is subject to change on short notice. To verify the status of meetings call (recording)—(301) 415-1292. Contact person for more information: Bill Hill (301) 415-1661.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmn@nrc.gov or dkw@nrc.gov.

Dated: November 9, 2000.
William M. Hill, Jr.,
SECY Tracking Officer, Office of the Secretary.

[FR Doc. 00-29354 Filed 11-13-00; 2:18 pm]

BILLING CODE 7590-01-M